DEPARTMENT OF COMMERCE

Submission for OMB Review; Comment Request

The Department of Commerce will submit to the Office of Management and Budget (OMB) for clearance the following proposal for collection of information under the emergency provisions of the Paperwork Reduction Act (44 U.S.C. Chapter 35).

Agency: National Telecommunications and Information Administration.

Title: Message Testing Focus Groups and Interviews for the Digital-to-Analog Converter Box Program.

OMB Control Number: None.

Form Number(s): None.

Type of Request: Emergency submission.

Number of Respondents: 328.

Average Hours per Response: 90 minutes.

Burden Hours: 492.

Needs and Uses: Congress directed the National Telecommunications and Information Administration (NTIA) to create and implement a program to provide coupons for consumers to purchase digital-to-analog converter boxes. These converter boxes are necessary for consumers who wish to continue receiving broadcast programming over the air using analog-only television sets after February 17, 2009—the date that television stations are required by law to cease analog broadcasting. Since September 2007, NTIA has been conducting a consumer education campaign to educate U.S. residents who receive over-the-air broadcasts on analog television sets about the digital television transition and the TV Converter Box Coupon Program. While awareness of the coupon program has been nationally reported, more than five million households were completely unprepared as of February 2009. On February 11, 2009, the President signed the DTV Delay Act into law changing the date by which all full-power television stations must cease analog broadcasts to June 12, 2009.

In an effort to help further determine who the unprepared households are, if the households have taken any steps to prepare for the transition, if not why, and the optimal messages and methods to communicate with the consumers who are not ready in the final months leading up to the transition, NTIA, will conduct 32 focus groups in ten cities and a limited number of individual interviews. This effort would lead in the development of new messages and materials to reach these consumers. The targeted audiences, identified as the more reliant on over-the-air television, include the following: (1) Economically disadvantaged households; (2) rural residents; (3) minorities; (4) people with disabilities; and (5) seniors.

Affected Public: Individuals or households.

Frequency: One-time only.

Respondent's Obligation: Voluntary.

OMB Desk Officer: Nicholas Fraser, (202) 395-5887.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent by March 6, 2009 to Nicholas Fraser, OMB Desk Officer, FAX number (202) 395-5806, or Nicholas_A._Fraser@omb.eop.gov.

Dated: February 26, 2009.
Gwellnar Banks,
Management Analyst, Office of the Chief Information Officer.

[FR Doc. E9-4513 Filed 3-3-09; 8:45 am]

BILLING CODE 3510-60-P